DEPARTMENT OF ENERGY

Federal Energy Regulatory Commission

[Docket No. RP01-242-000]

Southern Natural Gas Company; Notice of Tariff Filing

March 6, 2001.

Take notice that on February 28, 2001, Southern Natural Gas Company (Southern), tendered for filing as part of its FERC Gas Tariff, Seventh Revised Volume No. 1, listed in Attachment A to the filing, with an effective date of April 1, 2001.

Southern states that the purpose of the filing is to permit Southern to implement a park and loan (PAL) service on its system. Southern states that the tariff sheets include a new Rate Schedule PAL, a new proforma service agreement for the PAL service, the applicable rate sheet and various changes to its General Terms and Conditions describing the priority of service and creditworthiness standards for the PAL service.

Southern states that copies of the filing will be served upon its shippers and interested state commissions.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at ­ http://www.ferc.fed.us/efi/doorbell.htm.

David P. Boergers,
Secretary.

[FR Doc. 01-5993 Filed 3-9-01; 8:45 am]

BILLING CODE 6917-01-M